OFFICE OF THE UNITED STATES TRADE REPRESENTATIVE

[Docket Number USTR-2024-0009]

Request for Comments on Americas Partnership for Economic Prosperity—Trade Track

AGENCY: Office of the United States Trade Representative (USTR).

ACTION: Notice and request for comments.

SUMMARY: The United States, Barbados, Canada, Chile, Colombia, Costa Rica, Dominican Republic, Ecuador, Mexico, Panama, Peru and Uruguay have launched the Americas Partnership for Economic Prosperity (Partnership) to deepen economic collaboration and integration in the Western Hemisphere. In November 2023, leaders of these countries issued the East Room Declaration, directing Ministers responsible for trade, foreign affairs and finance each to commence work in their respective areas to fulfill Partnership objectives. USTR is seeking public comments on matters described below, including U.S. interests and priorities, in order to develop trade-related lines of effort in the trade track of the Partnership.

DATES: Submit comments no later than July 22, 2024.

ADDRESSES: USTR strongly prefers electronic submissions made through the Federal eRulemaking Portal: http://www.regulations.gov. See the submission instructions below. The Docket Number is USTR-2024-0009. For alternatives to on-line submissions, please contact the individuals listed below before transmitting a comment and in advance of the deadline.

FOR FURTHER INFORMATION CONTACT: Courtney Smothers, Deputy Assistant Trade Representative for Latin America, at Courtney.Smothers@ustr.eop.gov, or 202.395.7657, or Randall Oliver, Director for Canada, at Randall.T.Oliver@ustr.eop.gov, 202.395.9449.

SUPPLEMENTARY INFORMATION:

I. Background

President Biden first announced the Partnership at the 2022 Summit of the Americas. On November 3, 2023, the United States welcomed representatives of the founding Partnership countries to the White House for the first Leaders' Summit. Following the Summit, leaders of the United States, Barbados, Canada, Chile, Colombia, Costa Rica, Dominican Republic, Ecuador, Mexico, Panama, Peru and Uruguay released the East Room Declaration, which directs Ministers to begin work in three tracks—Foreign Affairs, Trade, and Finance—to support the Leaders' intention that the Partnership serve as a lasting regional platform to pursue an ambitious, flexible and goal-oriented regional economic and development agenda. Leaders further identified five initial cross-cutting priorities:

• Strengthening regional competitiveness and integration;

• Fostering shared prosperity and good governance;

• Building sustainable infrastructure;

• Protecting the climate and environment; and

• Promoting healthy communities.

Leaders also called on Ministers responsible for trade to develop inclusive and sustainable approaches to trade and investment that will support regional sustainable development and resilient supply chains for goods and services, enhance a predictable and transparent regulatory environment that can boost trade flows, and remove barriers to greater economic integration among our countries.

On March 18, 2024, the Partnership Trade Ministers met virtually. They took note of the work of the Partnership's Council on Trade and Competitiveness (CTC), which is comprised of senior officials for trade. The CTC has established committees on Trade Rules and Transparency, Sustainable Value and Supply Chains, and Inclusive Trade and SMEs.

The Ministers emphasized how the Partnership can complement and build on existing trade ties, further deepen economic integration in the region, and develop sustainable and inclusive approaches to trade and investment. They also recalled Leaders' expectation that the trade agenda under the Partnership promote formal jobs that lead to decent work and promote internationally recognized labor rights, environmental sustainability, and economic inclusion.

Trade Ministers plan to meet in person in Ecuador in August 2024 to review progress by the CTC and discuss priorities for next year. Ministers also will discuss preparation for the Leaders' Summit in Costa Rica in 2025.

II. Public Comment

The Trade Policy Staff Committee (TPSC) invites interested parties to submit comments to assist USTR in the development of priorities and lines of effort consistent with the regional scope and collaborative nature of the Partnership, as elaborated below. Because the Partnership will build on, and coexist with, existing U.S trade agreements, its work should not detract from or unnecessarily duplicate work that is taking place in the committees of existing U.S trade agreements, including free trade agreements, trade and investment framework agreements, and other similar agreements.

USTR is committed to broad and inclusive stakeholder engagement in developing projects for the trade work of the Partnership. In particular, the TPSC invites interested parties to comment on the following matters as they relate to trade and investment:

• Customs and trade facilitation;

• Value and supply chain resilience and sustainability, with particular focus on clean energy, medical supplies and semiconductors;

• Inclusive Trade, including for women, Indigenous Peoples, and other underrepresented groups;

• Issues of particular relevance to small and medium-sized enterprises;

• Labor standards and worker rights;

• Environment, climate, and conservation;

• Transparency and good regulatory practices;

• Anti-corruption;

• Trade capacity building needs and priorities; and

• Other matters related to trade and investment in the Americas that are consistent with the mission and scope of the Partnership.

USTR requests small businesses (generally defined by the Small Business Administration as firms with fewer than 500 employees) or organizations representing small business members that submit comments to self-identify as such, so that we may be aware of issues of particular interest to small businesses.

III. Requirements for Submissions

To be assured of consideration, submit your written comments by the July 22, 2024 11:59 EDT deadline. All submissions must be in English. USTR strongly encourages submissions via regulations.gov, using Docket Number USTR-2024-0009. USTR will not accept hand-delivered submissions. To make a submission via regulations.gov, enter docket number USTR-2024-0009 on the home page and click `search.' The site will provide a search-results page listing all documents associated with this docket. Find a reference to this notice by selecting `notice' under `document type' and click in the `refine document results' section on the left side of the screen and click on the link entitled `comment.' Regulations.gov allows users to submit comments by filling in a `type comment' field, or by attaching a document using an `upload file' field. USTR prefers that you provide submissions in an in an attached document and note `see attached' in the `comment' field on the online submission form.

USTR prefers submissions in Microsoft Word (.doc) or Adobe Acrobat (.pdf). If you use an application other than those two, please indicate the name of the application in the `type comment' field.

On the first page of the submission, identify the subject matter of the comment as “Request for Comments on the Americas Partnership for Economic Prosperity—Trade Track”. File names should reflect the name of the person or entity submitting the comments. Please do not attach separate cover letters, exhibits, annexes or other attachments to electronic submissions. Instead, to the extent possible, please include these in the same file as the submission itself. Submissions should not exceed 30 single-spaced, standard letter-size pages in 12-point type, including attachments.

You will receive a tracking number upon completion of the submission procedure at Regulations.gov. The tracking number is confirmation that Regulations.gov received your submission. Keep the confirmation for your records.

USTR is not able to provide technical assistance for Regulations.gov. For further information on using Regulations.gov, please consult the resources provided on the website by clicking on `How to Use Regulations.gov' on the bottom of the home page. USTR may not consider submissions that are not made in accordance with these instructions.

If you are unable to submit comments as requested, please contact Courtney Smothers, Deputy Assistant Trade Representative for Latin America, at Courtney.Smothers@ustr.eop.gov, or 202.395.7657, or Randall Oliver, Director for Canada, at Randall.T.Oliver@ustr.eop.gov, 202.395.9449, before transmitting a comment and in advance of the deadline to arrange for an alternative method of transmission.

General information concerning USTR is available at https://www.ustr.gov.

IV. Business Confidential Information (BCI) Submissions

If you ask USTR to treat information you submit as BCI, you must certify that the information is business confidential and you would not customarily release it to the public. For any comments submitted electronically containing BCI, the file name of the business confidential version should begin with the characters `BCI.' You must clearly mark any page containing BCI with `BUSINESS CONFIDENTIAL' at the top of that page. Additionally, you must include `Business Confidential' in the `type comment' field. Filers of submissions containing BCI also must submit a public version of their submission that will be placed in the docket for public inspection. The file name of the public version should begin with the character `P.' USTR will post the non-confidential version in the docket and it will be open to public inspection.

V. Public Viewing of Review Submissions

USTR will post written submissions in the docket for public inspection, except properly designated BCI. You can view submissions at regulations.gov by entering Docket Number USTR-2024-0009 in the search field on the home page.

Laura Buffo,
Chair of the Trade Policy Staff Committee, Office of the United States Trade Representative.

[FR Doc. 2024-13470 Filed 6-18-24; 8:45 am]

BILLING CODE 3390-F4-P